DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Sea Grant Program Application Requirements for Grants, for Sea Grant Fellowships and for Designation as a Sea Grant College or Regional Consortium.

OMB Control Number: 0648-0362.

Form Number(s): None.

Type of Request: Regular submission.

Burden Hours: 857.

Number of Respondents: 162.

Average Hours Per Response: Control forms, 30 minutes; program record forms, 20 minutes; budget forms, 15 minutes; applications for designation as a Sea Grant college or regional consortium, 20 hours; and fellowship applications, 2 hours.

Needs and Uses: Applications are required for the designation of a public or private institution of higher education, institute, laboratory, or State or local agency as a Sea Grant college or Sea Grant institute. Applications are also required in order to be awarded a Sea Grant Fellowship, including the Dean John A. Knauss Marine Policy Fellowships. The grant monies are available for funding activities that help attain the objectives of the Sea Grant Program. In addition to the SF-424 and other standard grant application requirements, three NOAA forms are required with a grant application. These are the Sea Grant Control Form, used to identify the organizations and personnel who would be involved in the grant; the Project Record Form, which collects summary data on projects; and the Sea Grant Budget Form (used in place of the SF-424A or SF-424C).

Affected Public: Not-for-profit institutions; individuals or households.

Frequency: Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: February 28, 2008.
Gwellnar Banks,
Management Analyst, Office of the Chief Information Officer.

[FR Doc. E8-4093 Filed 3-3-08; 8:45 am]

BILLING CODE 3510-22-P